DEPARTMENT OF LABOR

Innovative Demonstration Grants for Youth With Disabilities

AGENCY: Office of Disability Employment Policy, Labor.

ACTION: Notice of availability of funds and solicitation for grant applications (SGA 01-07).

SUMMARY: The U.S. Department of Labor (DOL or Department), Office of Disability Employment Policy (ODEP) announces the availability of $3.5 million to award competitive grants to fund model demonstration programs designed to enhance the capacity of youth programs to serve youth with disabilities. Up to nine competitive grants will be awarded in the range of $350,000 to $500,000. These awards are for a two-year period of performance. All youth service applicants, other than 501(c)(4) entities, will be eligible.

Each grant must involve members of two specific groups in strategic planning and implementation activities: youth with disabilities and relevant experts in the field of young people with disabilities (such as disability organizations, researchers, policy makers, employers, family members and/or family organizations, independent living centers, or service providers). Each grant must also include a management and evaluation component. All forms necessary to prepare an application are included in this Solicitation for Grant Application (SGA.)

DATES: One (1) ink-signed original, complete grant application plus three (3) copies of the Technical Proposal and three (3) copies of the Cost Proposal must be submitted to the U.S. Department of Labor, Procurement Services Center, Attention Grant Officer, Reference SGA 01-07, Room N-5416, 200 Constitution Avenue, NW, Washington, DC 20210, not later than 4:45 p.m. EST, August 29, 2001. Hand-delivered applications must be received by the Procurement Services Center by that time.

ADDRESSES: Grant applications must be hand delivered or mailed to U.S. Department of Labor, Procurement Services Center, Attention: Grant Officer, Reference SGA 01-07, Room N-5416, 200 Constitution Avenue, NW, Washington, DC 20210. Applicants must verify delivery to this office directly through their delivery service and as soon as possible.

FOR FURTHER INFORMATION, CONTACT: Applications will not be mailed. The Federal Register may be obtained from your nearest government office or library. Questions concerning this solicitation may be sent to Cassandra Willis, at the following Internet address: willis-cassandra@dol.gov.

Late Proposals

The grant application package must be received at the designated place by the date and time specified or it will not be considered. Any application received at the Procurement Services Center after 4:45 p.m. EST, August 29, 2001, will not be considered unless it is received before the award is made and:

1. It was sent by registered or certified mail not later than the fifth calendar day before August 29, 2001;

2. It is determined by the Government that the late receipt was due solely to mishandling by the Government after receipt at the U.S. Department of Labor at the address indicated; or

3. It was sent by U.S. Postal Service Express Mail Next Day Service-Post Office to Addressee, not later than 5 p.m. at the place of mailing two (2) working days, excluding weekends and Federal holidays, prior to August 29, 2001.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise place impression (not a postage meter machine impression) that is readily identifiable without further action as having been applied and affixed by an employee of the U.S. Postal Service on the date of mailing. Therefore applicants should request the postal clerk place a legible hand cancellation “bull's-eye” postmark on both the receipt and the envelope or wrapper.

The only acceptable evidence to establish the date of mailing of a late application sent by U.S. Postal Service Express Mail Next Day Service-Post Office to Addressee is the date entered by the Post Office receiving clerk on the “Express Mail Next Day Service-Post Office to Addressee” label and the postmark on the envelope or wrapper and on the original receipt from the U.S. Postal Service. “Postmark” has the same meaning as defined above. Therefore, applicants should request that the postal clerk place a legible hand cancellation “bull's-eye” postmark on both the receipt and the envelope or wrapper.

The only acceptable evidence to establish the time of receipt at the U.S. Department of Labor is the date/time stamp of the Procurement Services Center on the application wrapper or other documentary evidence or receipt maintained by that office. Applications sent by telegram or facsimile (FAX) will not be accepted.

SUPPLEMENTARY INFORMATION:

I. Authority

Consolidated Appropriations Act, 2001, Public Law 106-554,114 STAT 2763A-10, 29 USC 557(b).

II. Background

The President's “New Freedom Initiative” is designed to increase the number of people with disabilities who enter, re-enter, and remain in the workforce. This initiative is dedicated to increasing investment in, and access to, assistive technologies; expanding educational opportunities; in order to increase the ability of individuals with disabilities to integrate into the workforce; and promoting increased access into the community.¹

¹ For more information about the New Freedom Initiative, go to the White House web page at www.whitehouse.gov/news/freedominitiative.

A key to increasing the employment of people with disabilities is to ensure that young people with disabilities are provided resources and assistance to move from school to work, as opposed to becoming dependent on welfare or other benefits programs. One way of accomplishing this is to increase the participation of youth with disabilities into mainstream workforce development activities under Workforce Investment Act of 1998 (WIA).

According to the U.S. Department of Education, the national high school graduation rates (e.g. diplomas, GED, alternative certificates) for students with disabilities are below that of youth without disabilities. According to the National Center on Education Statistics (2001) 88% of students without disabilities graduate; according to the Office of Special Education Programs (2000) 62% of youth with disabilities graduate.² Students with disabilities experience a school drop out rate of 31%, compared to 11% of non-disabled youth. Youth with emotional disabilities experience an even higher drop out rate of 54%. It is estimated that only one-third of young people with disabilities who need job training receive it. Young people with disabilities also have significantly lower rates of participation in post-secondary education. Finally, the Social Security Administration has found that many young people with disabilities who enter the Supplementary Security Income (SSI)/Social Security Disability Insurance (SSDI) rolls are likely to remain on the program rolls for their entire life.

² U.S. Department of Education, National Center on Education Statistics, The Condition of Education 2000 in Brief, Jeanne H. Nathanson NCES 2001-045, Washington, DC; U.S. Government Printing Office, 2001.

U.S. Department of Education, Office of Special Education and Rehabilitation Services, Twenty-second Annual Report to Congress on the Implementation of the Individuals with Disabilities Act, Washington, DC, U.S. Government Printing Office, 2000.

The federal/state vocational rehabilitation system is neither large enough to, nor solely responsible for, serving all youth with disabilities who depart the school system. According to the U.S. Department of Education, each year approximately 500,000 young people with disabilities leave our nation's schools. Vocational rehabilitation programs are able to serve less than 40,000 of these young people with disabilities. A large portion of the remaining 460,000 youth with disabilities are potentially eligible for youth programs financially assisted under WIA. One of the most significant reforms under WIA section 129(c) (29 U.S.C. 2854(c)), is the consolidation of the year-round youth program and the summer youth program into a single formula-based funding stream. Under WIA, each local workforce investment area must have a year-round youth services strategy that incorporates summer youth employment opportunities as one of ten required program elements (WIA section 129(c)(2)(C.), 29 U.S.C. 2854(c)(2)). The ten program elements reflect successful youth development approaches and focus on the following four key themes:

1. Improving educational achievement (including such elements as tutoring, study skills training, and instruction leading to secondary school completion, drop-out prevention strategies, and alternative secondary school offerings);

2. Preparing for and succeeding in employment (including summer employment opportunities, paid and unpaid work experience, and occupational skills training);

3. Supporting youth (including supportive services needs, providing adult mentoring, follow-up services, and comprehensive guidance and counseling); and

4. Offering services intended to develop the potential of young people as citizens and leaders (including leadership development opportunities.)

WIA provides a variety of work preparation programs that can assist youth with disabilities with their career ambitions. The potential is great for these programs to prepare eligible youth participants with disabilities for employment. Moreover, WIA-assisted youth programs must take up their responsibilities as vital partners in the broad spectrum of programs which prepare individuals for the workforce. These services need to be made available to young people with disabilities. Traditionally, however, they are not recruited to participate in these programs. WIA youth service providers may not be aware of the need to serve youth with disabilities in their communities and may lack the resources to develop strong partnerships and an equitable referral and assessment system.

In addition, Vocational Rehabilitation agencies, Special Education agencies, and other agencies serving youth with disabilities may not be informed about the potential for coordinating resources with WIA-based programs, or for creating mechanisms for such programs to cooperate and support young people with disabilities.

The U.S. Department of Labor has determined that youth programs need to be strengthened to better serve young people with disabilities. This need has been highlighted as a critical priority in the FY 2001 budget appropriation for the Department through the Consolidated Appropriations Act, 2001, Public Law 106-554, 114 STAT 2763A-10, 29 USCA 557(b). Recently, the Office on Disability Employment Policy (ODEP) was established within DOL (Pub. L. 106-554) to provide policy direction for serving all individuals with disabilities. Key among ODEP's responsibilities is to provide technical assistance and support designed to assist various youth programs, including WIA-assisted youth programs, and thereby increase the capacity of those programs to serve people with disabilities.

In order to accomplish this goal, a two-pronged approach will be used. This approach includes:

1. Awarding these grants which are designed to demonstrate and further develop the capacity of various youth programs to serve youth with disabilities; and,

2. Establishment of a technical assistance program to support capacity building for various youth programs.

In combination, these activities will substantially contribute to achieving the goals of the President's New Freedom Initiative.

This SGA is designed to initiate the first of these activities. Establishment of the supporting national technical assistance program is being implemented simultaneously, under a separate SGA. The technical assistance program is expected to be in operation in time to help with the implementation of these demonstration grants.

III. Purpose

This SGA supports model demonstration projects that develop, implement, evaluate, and disseminate new or improved approaches that generate knowledge, and promote best practices to the various youth programs, in order to increase participation and improve results in those programs for young people with disabilities.

For the purposes of this SGA, a “youth with disabilities” is defined as a youth aged 14 to 21 years old to whom one or more of the following applies:

a. Has a physical or mental impairment that substantially limits one or more of his or her major life activities;

b. Has a record of such an impairment; or,

c. Is regarded as having such an impairment.³

³ This definition is consistent with the definition of “disability” that applies under four Federal laws barring discrimination on the basis of disability, including section 504 of the Rehabilitation Act of 1973, as amended (29 U.S.C. 705(9) and 705(20)); title I and II of the Americans with Disabilities Act of 1990 (ADA), as amended (42 U.S.C. 12102(2)); and section 101(17) of the Workforce Investment Act of 1998 (29 U.S.C. 2801(17)), as well as the regulations implementing these laws.

The purpose of these demonstration projects is to help various youth programs develop their staff's capacity to serve youth with disabilities. This capacity building will allow these programs to develop and further demonstrate strategies and techniques to increase the participation of youth with disabilities; these strategies and techniques can, in turn, serve as models for similar various youth programs. These projects will target youth both in-and out-of-school. As a result of these demonstrations, and associated technical assistance efforts, ODEP anticipates that all various youth programs will learn from and follow these examples, resulting in a system wide increase in the successful participation of youth with disabilities in all various youth programs.

Included in the objectives of these model demonstration projects is a goal of building upon and enhancing the integrated youth development approach envisioned under WIA, by incorporating knowledge of best practices developed through 15 years of research from the fields of rehabilitation, special education, maternal and child health, school-to-work, and youth development as discussed in Section IV of this SGA.

Projects are required to collaborate with the technical assistance program (described above in the Background section.

IV. Statement of Work

Grantees must implement demonstration projects designed to develop their youth program's capacity to increase its services to youth with disabilities. This capacity building will allow these programs to develop and further demonstrate strategies and techniques to increase both the participation of and results for youth with disabilities.

These grant funds are designed to enable various youth programs to support those needed efforts to achieve a greater level and quality of service to youth with disabilities in their existing programs. These grant funds are not intended as direct service payments for youth with disabilities. Rather, these funds are intended to be used in ways which create systems change or overall program improvements to enable various youth programs to be better able to successfully serve youth with disabilities.

Under this grant, grantees must serve at least 40 youth with disabilities each year or, if the program has fewer than 200 participants, at least 20% of them must be participants with disabilities.

Grantees must develop, implement, evaluate, and disseminate new or improved approaches to the youth programs that generate knowledge, and promote best practices, in order to increase participation and improve results in those programs for young people with disabilities. In addition, grantees must participate in technical assistance efforts designed to disseminate to other programs their successful strategies and techniques for serving greater numbers of youth with disabilities.

All grantees must operate demonstration projects that integrate the four key themes discussed above with one or more of the following best practice features:

1. Demonstrations focused on promoting effective structures, policies, and practices to improve results for youth with disabilities in WIA programs, in areas such as admission, enrollment, assessment, staff development, interagency coordination, etc.;

2. Demonstrations of effective service interventions and approaches that help young people with disabilities to overcome barriers to positive education and employment outcomes;

3. Demonstrations that focus on the link between academic and occupational skill standards; and on the integration of academic and applied learning in real work settings;

4. Demonstrations that focus on supporting and accommodating young people with disabilities in integrated, inclusive work, and work-preparation environments at all times, especially if their educational program has been delivered even partially in a segregated setting;

5. Demonstrations that focus on youth-centered planning and development (e.g., assessment, choice, rights and responsibilities, life skills, drop out prevention strategies, paid and unpaid work experiences, leadership development, adult mentoring);

6. Demonstrations that focus on promoting physical and mental health, and the link between health and positive educational and employment outcomes;

7. Demonstrations that focus on increasing the type of involvement by business, labor, family, and community, that creates effective connections to intermediaries with strong links to the job market and to local and regional employers;

8. Demonstrations which develop and leverage linkages with other state and local initiatives that provide services and supports for young people with significant disabilities (such initiatives may include, but are not limited to, systems change efforts promoting enduring systems improvement and comprehensive coordination; health care; housing; transportation; education; supported employment; small business development; technology related assistance; private foundations; faith-based initiatives); and

9. Demonstrations that research alternative methods of measuring WIA performance outcomes that consider the various characteristics of people with disabilities.

Some examples of suggested resources for information about various youth program components and these best practice features can be located on the following web sites:

1. Employment and Training Administration (ETA) Office of Youth Services web site: www.doleta.gov/youth_services

2. National Transition Alliance for Youth with Disabilities: www.dssc.org/nta

3. The Department of Health and Human Services, Maternal and Child Health, “Healthy and Ready to Work” website: www.mchbhrtw.org

4. National Youth Employment Coalition, Program and Effective Practices Network (PEPNET) website: www.nyec.org

5. National Center on Secondary Education and Transition website: www.ici.edu

In addition, a model demonstration project must:

1. Provide a detailed management plan for project goals, objectives, and activities;

2. Use rigorous quantitative or qualitative evaluation methods and data;

3. Evaluate the model by using multiple measures of results to determine the effectiveness of the model and its components or strategies for continuos program improvements;

4. Produce detailed procedures and materials that would enable others to replicate the model;

5. Communicate with appropriate audiences through means such as technical assistance providers and disseminators, publications, conference presentations, and/or a web site. (If the project maintains a web site, it must include relevant information and documents in an accessible form); and

6. Collaborate with appropriate Federal and state agencies and programs, such as Maternal and Child Health/Children with Special Health Care Needs Program, Social Security Administration, Health Care Financing Administration, Department of Education, Vocational Rehabilitation, Developmental Disabilities.

The Department will arrange for an independent evaluation of outcomes, impacts, and benefits of the demonstration projects. Grantees must make records available to evaluation personnel, as specified by the evaluator(s) under the direction of the Department.

V. Funding Availability

The period of performance will be 24 months from the date of execution by the Government. Up to nine (9) competitive grants will be awarded in the range of $350,000 to $500,000. It is expected that the funds used for this SGA will support the costs associated with the development, implementation, and evaluation of a model demonstration project for a youth program to significantly increase the numbers of young people with disabilities participating and benefitting from program activities. Projects can use the available funds to conduct a variety of activities to support these models, such as outreach, recruitment, staff training, strategic planning, assessment, curriculum/materials development, career development, student-focused planning, program alignment, partnership building, reasonable accommodations, etc., youth programs are required to use existing funding to provide direct services to young people with disabilities.

VI. Eligible Applicants

All youth service applicants, other than Section 501 (c)(4) entities, are eligible. Each grantee must involve members of two specific groups in strategic planning and implementation activities: Youth with disabilities, and relevant experts in the field of young people with disabilities (such as disability organizations, researchers, policy makers, employers, family members and/or family organizations, independent living centers, or service providers.)

Please note that Eligible Grant Applicants must not be Classified Under the Internal Revenue Code as a 501(c)(4) entity.

See 26 U.S.C. 506(c)(4). According to Section 18 of the Lobbying Disclosure Act of 1995, an organization, as described in Section 501(c)(4) of the Internal Revenue Code of 1986, that engages in lobbying activities will not be eligible for the receipt of federal funds constituting an award, grant, or loan.

VII. Application Contents

General Requirements—Three copies and an original of the proposal must be submitted, one of which must contain an original signature. Proposals must be submitted by the applicant only. There are three required sections of the application. Requirements for each section are provided in this application package.

Part I—Executive Summary

The Executive Summary should be no more than 2 single-spaced pages in length giving a clear summary of the project narrative.

Part II—Project Narrative—(Appendices—Letters of Commitment/Support, Resumes, etc.)

Applicants must include a narrative that addresses the Statement of Work in Part IV of the notice and the selection criteria that are used by reviewers in evaluating the application. You must limit Part II to the equivalent of no more than fifty (50) pages using the following standard. This page limit does not apply to Part I the Executive Summary; Part III the Project Financial Plan (Budget); and, the Appendices (the assurances and certifications, resumes, a bibliography or references, and the letters of support.) A page is 8.5″ x 11″ (on one side only) with one-inch margins (top, bottom, and sides). All text in the application narrative, including titles, headings, footnotes, quotations, and captions, as well as all text in charts, tables, figures, and graphs double-spaced (no more than three lines per vertical inch); and, if using a proportional computer font, use no smaller than a 12-point font, and an average character density no greater than 18 characters per inch (if using a non-proportional font or a typewriter, do not use more than 12 characters per inch.)

Applicants must include in Part II of the proposal a narrative that addresses all of the Evaluation Criteria (section VIII below) that will be used by reviewers in evaluating individual proposals.

Grantees must collaborate with other research institutes, centers, and studies and evaluations, that are supported by DOL and other relevant Federal agencies.

Part III—Project Financial Plan (Budget)

Applications must include a detailed financial plan which identifies by line item the budget plan designed to achieve the goals of this grant. The Financial Plan must contain the SF 424, Application for Federal Assistance, (Appendix A) and a Budget Information Sheet SF 424A (Appendix B).

In addition, the budget must include on a separate page a detailed cost analysis of each line item. Justification for administrative costs must be provided. Approval of a budget by DOL is not the same as the approval of actual costs. The individual signing the SF 424 on behalf of the applicant must represent and be able to legally bind the responsible financial and administrative entity for a grant should that application result in an award. The applicant must also include the Assurances and Certifications Signature Page (Appendix C).

VIII. Evaluation Criteria/Selection

A. Evaluation Criteria

The application must include appropriate information of the type described below.

1. Significance of the Proposed Project (15 points)

In determining the significance of the proposed project, the Department considers the following factors:

a. The potential contribution of the proposed project to increase knowledge or understanding of problems, issues, or effective strategies for youth programs in serving young people with disabilities;

b. The extent to which the proposed project is likely to yield findings that may be used by other appropriate agencies and organizations;

c. The extent to which the proposed project involves the development or demonstration of promising new strategies that build on, or are alternatives to, existing strategies;

d. The likely utility of the products (such as information, materials, processes, or techniques) that will result from the proposed project, including the potential for the products' being used effectively in a variety of other settings;

e. The extent to which the promising practices of the proposed project are to be disseminated in ways that will enable others to use the information or strategies;

f. The potential replicability (national significance) of the proposed project or strategies, including, as appropriate, the potential for implementation in a variety of settings; and

g. The importance or magnitude of the results which are likely to be attained by the proposed project.

2. Quality of the Project Design (25 Points)

In evaluating the quality of the proposed project design, the Department considers the following factors:

a. The extent to which the goals, objectives, and outcomes to be achieved by the proposed project are clearly specified and measurable;

b. The extent to which the design of the proposed project is appropriate to, and will successfully address the needs of the target population and other identified needs;

c. The extent to which the design of the proposed project can measure methods for recruiting and serving youth with disabilities each year;

d. The extent to which the proposal demonstration incorporates the four key themes identified in Part IV, Statement of Work;

e. The extent to which the proposed project is designed to build capacity and yield results that will extend beyond the period of this grant;

f. The extent to which the design of the proposed project reflects a review of disability related literature, up-to-date knowledge from research and effective practice of youth-centered planning and youth development principles and approaches, and the use of appropriate methodological tools to ensure successful achievement of project objectives;

g. The extent to which the proposed project will be coordinated with similar or related efforts, and with other appropriate community, State, and Federal resources;

h. The extent to which the applicant encourages involvement of young people with disabilities, relevant experts, and organizations in project activities; and,

g. The extent to which performance feedback and continuous improvement are integral to the design of the proposed project.

3. Quality of Project Personnel (15 Points)

The Project Narrative must describe the proposed staffing of the project and must identify and summarize the qualifications of the personnel who will carry it out. In evaluating the quality of project personnel, the Department considers the extent to which the applicant encourages applications for employment from persons who are members of groups that have traditionally been under represented based on race, color, national origin, gender, age, and disability.

The projects funded under this notice must make positive efforts to employ and advance in employment qualified individuals with disabilities in project activities. In addition, the Department considers the qualifications, including relevant education, training and experience of key project personnel as well as the qualifications, including relevant training and experience of project consultants or subcontractors. Resumes must be included in the Appendices.

4. Adequacy of Resources (15 Points)

In evaluating the adequacy of resources for the proposed project, the Department considers the following factors:

a. The adequacy of support, including facilities, equipment, supplies, and other resources, from the applicant organization or the lead applicant organization;

b. The relevance and demonstrated commitment of each partner in the proposed project to the implementation and success of the project; and,

c.The extent to which the budget is adequate to support the proposed project;

d. The extent to which the costs are reasonable in relation to the objectives, design, and potential significance of the proposed project; and

e. The extent to which the applicant proposes to leverage other resources and funds, or to use these funds to leverage other funds.

The applicant may include letters of commitment from proposed partners in the Appendix.

5. Quality of the Management Plan (15 Points)

In evaluating the quality of the management plan for the proposed project, the Department considers the following factors:

a. The extent to which a high-quality management plan for project implementation is provided to achieve the objectives of the proposed project on time and within budget, including clearly defined staff responsibilities, and time allocated to project activities, time lines, milestones for accomplishing project tasks and project deliverables;

b. The adequacy of mechanisms for ensuring high-quality products and services from the proposed project; and

c. The extent to which the time commitments of the project director and principal investigator and other key project personnel are appropriate and adequate to meet the objectives of the proposed project.

6. Quality of the Project Evaluation (15 Points)

In evaluating the quality of the project's evaluation design, the Department considers the following factors:

a. The extent to which the methods of evaluation are thorough, feasible, and appropriate to the goals, objectives, context and outcomes of the proposed project the extent to which the methods of evaluation provide for examining the effectiveness of project implementation strategies;

b. The extent to which the methods of evaluation include the use of objective performance measures that are clearly related to the intended outcomes of the project and will produce quantitative and qualitative data;

c. The extent to which the evaluation will provide information to other youth programs about effective strategies suitable for replication or testing in other settings; and

d. The extent to which the methods of evaluation measure in both quantitative and qualitative terms, program results and satisfaction of youth with disabilities.

B. Selection Criteria

Acceptance of a proposal and an award of federal funds to sponsor any program(s) is not a waiver of any grant requirement and/or procedures. Grantees must comply with all applicable Federal statutes, regulations, administrative requirements and OMB Circulars. For example, the OMB circulars require, and an entity's procurement procedures must require that all procurement transaction shall be conducted, as practical, to provide open and free competition. If a proposal identifies a specific entity to provide the services, the award does not provide the justification or basis to sole-source the procurement, i.e., avoid competition.

A panel will objectively rate each complete application against the criteria described in this SGA. The panel recommendations to the Grant Officer are advisory in nature. The Grant Officer may elect to award grants either with or without discussion with the applicant. In situations where no discussion occurs, an award will be based on the signed SF 424 form (see Appendix A), which constitutes a binding offer. The Grant Officer may consider the availability of funds and any information that is available and will make final award decisions based on what is most advantageous to the government, considering factors such as:

1. Findings of the grant technical evaluation panel;

2. Geographic distribution of the competitive applications;

3. Assuring a variety of different program designs; and,

4. The availability of funds.

IX. Reporting

Grantees must submit on a quarterly basis by March 30, June 30, September 30, and December 31 financial and participation reports under this program as prescribe by OMB Circulars A-102 and A-110. It is estimated that the quarterly program report will take five (5) hours to complete.

1. Financial Reports

2. Quarterly and Final Program Results and Reports on the Satisfaction of Youth with Disabilities

3. Other Reporting (to Technical Assistance Service Providers, etc.), as prescribed by DOL

X. Administration Provisions

A. Administrative Standards and Provisions

Grantees are strongly encouraged to read these regulations before submitting a proposal. The grant awarded under this SGA shall be subject to the following as applicable:

29 CFR Part 95—Uniform Administrative Requirements for Grants and Cooperative Agreements with Institutions of Higher Education, etc.

29 CFR Part 96—Federal Standards for Audit of Federally Funded Grants, Contracts, and Agreements

29 CFR Part 97—Uniform Administrative Requirement for Grants and Cooperative Agreements to State and Local Governments

B. Allowable Cost

Determinations of allowable costs shall be made in accordance with the following applicable Federal cost principles:

State and Local Government—OMB Circular A-87

Nonprofit Organizations—OMB Circular A-122

Profit-making Commercial Firms—48 CFR Part 31

C. Grant Assurances

The applicant must include the attached assurances and certifications.

Profit will not be considered an allowable cost in any case.

BILLING CODE 4510-23-P

Signed at Washington, D.C. this 25th day of July, 2001
Lawrence J. Kuss,
Grant Officer.

[FR Doc. 01-18940 Filed 7-27-01; 8:45 am]

BILLING CODE 4510-23-C